DEPARTMENT OF COMMERCE

National Oceanic and Atmospheric Administration

[RTID 0648-XB665]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries will host a virtual meeting of the Council Coordination Committee (CCC), consisting of the Regional Fishery Management Council chairs, vice chairs, and executive directors on January 18, 2022. The intent of this meeting is to discuss issues of relevance to the Councils and NMFS, including issues related to the implementation of the Magnuson-Stevens Fishery Conservation and Management Reauthorization Act. The meeting is open to the public.

DATES: The meeting will begin at 3 p.m. Eastern on Tuesday, January 18, 2022, and adjourn by 4 p.m. Eastern.

ADDRESSES: The meeting will be held online via WebEx. Attendees can find information on how to join at https://www.fisheries.noaa.gov/national/partners/council-coordination-committee and http://www.fisherycouncils.org/ccc-meetings.

FOR FURTHER INFORMATION CONTACT: Lindsay Fullenkamp by email at lindsay.fullenkamp@noaa.gov or at (301) 427-8500.

SUPPLEMENTARY INFORMATION: The Magnuson-Stevens Fishery Conservation and Management Reauthorization Act established the CCC. The CCC consists of the chairs, vice chairs, and executive directors of each of the eight Regional Fishery Management Councils or other Council members or staff. Updates to this meeting and additional information will be posted on https://www.fisheries.noaa.gov/national/partners/council-coordination-committee and http://www.fisherycouncils.org/ when available.

Proposed Agenda

Tuesday, January 18, 2022—3 p.m.-4 p.m. Eastern

1. Consideration of changes to the process of integrating Section 7 of the Endangered Species Action with the Magnuson-Stevens Act

2. Public Comment

3. Wrap-up

Special Accommodations

If you have particular access needs please contact Lindsay Fullenkamp at lindsay.fullenkamp@noaa.gov at least 7 business days prior to the meeting for accommodation.

Dated: December 20, 2021.
Ngagne Jafnar Gueye,
Acting Director, Office of Sustainable Fisheries, National Marine Fisheries Service.

[FR Doc. 2021-28187 Filed 12-27-21; 8:45 am]

BILLING CODE 3510-22-P